DEPARTMENT OF TRANSPORTATION

Surface Transportation Board

[Docket No. FD 35531]

Lake Providence Port Commission—Trackage Rights Exemption—Delta Southern Railroad, Inc.

Pursuant to a written trackage rights agreement dated May 26, 2011, Delta Southern Railroad, Inc. (DSR), has agreed to grant overhead trackage rights to Lake Providence Port Commission (Lake Providence) over approximately 1.25 miles of rail line between milepost 471.0 (Highway Barn near Lake Providence) and milepost 472.25 in East Carroll Parish, La., where the trackage rights line connects with a private side track and lead track owned by Lake Providence that allow rail service to the warehouses and dock at the Port.

The purpose of the transaction is to allow Lake Providence to connect its private tracks at the Port with a line it will acquire from DSR. See Delta Southern R.R.—Aban. Exemption—in E. Carroll Parish, La., AB 384 (Sub-No. 2X) (STB served June 7, 2011).

The transaction is scheduled to be consummated after July 10, 2011, the effective date of the exemption (30 days after the exemption was filed).

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by July 1, 2011 (at least 7 days before the exemption becomes effective).

An original and 10 copies of all pleadings, referring to Docket No. FD 35531, must be filed with the Surface Transportation Board, 395 E Street, SW., Washington, DC 20423-0001. In addition, a copy of each pleading must be served on Eric M. Hocky, Thorp Reed & Armstrong, LLP, One Commerce Square, 2005 Market Street, Suite 1000, Philadelphia, PA 19103.

Board decisions and notices are available on our Web site at http://www.stb.dot.gov.

Decided: June 20, 2011.
By the Board, Rachel D. Campbell, Director, Office of Proceedings.
Andrea Pope-Matheson,
Clearance Clerk.

[FR Doc. 2011-15732 Filed 6-22-11; 8:45 am]

BILLING CODE 4915-01-P